DEPARTMENT OF LABOR

Mine Safety and Health Administration

30 CFR Parts 56, 57, and 66

RIN 1219-AB41

Alcohol- and Drug-Free Mines: Policy, Prohibitions, Testing, Training, and Assistance

AGENCY: Mine Safety and Health Administration (MSHA), Labor.

ACTION: Proposed rule; notice of public hearing; extension of comment period.

SUMMARY: The Mine Safety and Health Administration (MSHA) will hold an additional public hearing on its proposed rule to amend the existing metal and nonmetal standards for the possession and use of intoxicating beverages and narcotics and make the new standard applicable to all mines. The proposed rule would also require those who violate the prohibitions to be removed from the performance of safety-sensitive job duties until they successfully complete the recommended treatment and their alcohol- and drug-free status is confirmed by a return-to-duty test.

DATES: All comments must be received by midnight Eastern Daylight Savings Time on November 10, 2008.

MSHA will hold a public hearing on October 28, 2008. The SUPPLEMENTARY INFORMATION section of this notice includes details of the hearing.

ADDRESSES: Comments must be clearly identified with “RIN 1219-AB41” and may be sent by any of the following methods:

(1)Federal e-Rulemaking Portal: http://www.regulations.gov. Follow the instructions for submitting comments.

(2) Electronic mail: zzMSHA-comments@dol.gov. Include “RIN 1219-AB41” in the subject line of the message.

(3) Facsimile: 202-693-9441. Include “RIN 1219-AB41” in the subject line of the message.

(4) Regular Mail: MSHA, Office of Standards, Regulations, and Variances, 1100 Wilson Boulevard, Room 2350, Arlington, Virginia 22209-3939.

(5) Hand Delivery or Courier: MSHA, Office of Standards, Regulations, and Variances, 1100 Wilson Boulevard, Room 2350, Arlington, Virginia. Sign in at the receptionist's desk on the 21st floor.

Comments can be accessed electronically at http://www.msha.gov under the Rules and Regs link. MSHA will post all comments on the Internet without change, including any personal information provided.

Comments may also be reviewed at the Office of Standards, Regulations, and Variances, 1100 Wilson Boulevard, Room 2350, Arlington, Virginia. Sign in at the receptionist's desk on the 21st floor.

FOR FURTHER INFORMATION CONTACT: Patricia W. Silvey, patricia.silvey@dol.gov (E-mail), 202-693-9440 (Voice).

SUPPLEMENTARY INFORMATION:

I. Background

On September 8, 2008 (73 FR 52136), MSHA published a proposed rule in the Federal Register that would amend the existing metal and nonmetal standards concerning the use of intoxicating beverages and narcotics and would make the new standard applicable to all mines. On September 26, 2008 (73 FR 55800), MSHA published a document extending the comment period. The proposed rule would designate the substances that cannot be possessed on mine property or used while performing safety-sensitive job duties, except when used according to a valid prescription. Mine operators would be required to establish an alcohol- and drug-free mine program, which includes a written policy, employee education, supervisory training, alcohol- and drug-testing for miners that perform safety-sensitive job duties and their supervisors, and referrals for assistance for miners and supervisors who violate the policy. The proposed rule would also require those who violate the prohibitions to be removed from the performance of safety-sensitive job duties until they successfully complete the recommended treatment and their alcohol- and drug-free status is confirmed by a return-to-duty test.

MSHA held a public hearing on October 14, 2008 and persons made presentations via Webcast in Washington, DC, Pittsburgh, PA, and Englewood, CO. Additionally, persons made presentations via audio in Birmingham, AL, Beckley, WV, Madisonville, KY, and Price, UT. In response to further requests, MSHA is holding an additional hearing.

II. Public Hearing

MSHA will hold a public hearing on the proposed rule. The public hearing will begin at 9 a.m. Eastern Daylight Savings Time (EDST). Persons can make presentations via audio at three locations. The hearing will end at 5 p.m. EDST, or after the last speaker speaks. The hearing will be held on the following date at the locations and times indicated:

Date | Location | Contact information
October 28, 2008 | Via Audio: 9:00 a.m. Eastern Daylight Savings Time. The National Mine Health and Safety Academy, 1301 Airport Road, Beckley, WV 25813 | Office of Standards, Regulations and Variances, 202-693-9440.
October 28, 2008 | Via Audio: 8:00 a.m. Central Daylight Savings Time. Sheraton Birmingham Hotel, 2101 Richard Arrington Jr. Blvd. N, Medical Forum Auditorium, Birmingham, Alabama 35203 | Office of Standards, Regulations and Variances, 202-693-9440.
October 28, 2008 | Via Audio: 8:00 a.m. Central Daylight Savings Time. United Steelworkers Local Union #1938, 307 First Street North, Virginia, Minnesota 55792 | Office of Standards, Regulations and Variances, 202-693-9440.

The MSHA panel will be located at the Agency's Arlington headquarters at 1100 Wilson Boulevard, 25th floor in Arlington, Virginia. Persons will need an ID to enter all locations and may be subject to a security check.

The hearing will begin with an opening statement from MSHA, followed by an opportunity for members of the public to make oral presentations. Requests to speak at the hearing should be made prior to the hearing date. Requests to speak may be made by telephone (202-693-9440), facsimile (202-693-9441), electronic mail zzMSHA-comments@dol.gov or mail (MSHA, Office of Standards, Regulations, and Variances, 1100 Wilson Boulevard, Room 2350, Arlington, Virginia 22209-3939). Because members of the public will be able to make oral presentations via audio at several locations, for scheduling purposes, MSHA strongly encourages all parties wishing to speak to notify the Agency in advance.

Any unallocated time at the end of the hearing will be made available to persons making same-day requests to speak. Same-day requestors will speak in the order that they sign in at the hearing. At the discretion of the presiding official, the time allocated to each speaker for their presentation may be limited. Speakers and other attendees may also present information to the MSHA panel for inclusion in the rulemaking record.

The hearing will be conducted in an informal manner. Formal rules of evidence and cross examination will not apply. The hearing panel may ask questions of speakers. Speakers may ask questions of the hearing panel. MSHA will make a transcript of the hearing, post it on MSHA's Web site http://www.msha.gov, and include it in the rulemaking record. A link to the complete audio recording will be placed on MSHA's Web site several days after the hearing.

MSHA will accept post-hearing written comments and data for the record from any interested party, including those not presenting oral statements, by midnight Eastern Daylight Savings Time on November 10, 2008.

Dated: October 20, 2008.
Richard E. Stickler,
Acting Assistant Secretary for Mine Safety and Health.

[FR Doc. E8-25380 Filed 10-21-08; 11:15 am]

BILLING CODE 4510-43-P